FEDERAL COMMUNICATIONS COMMISSION

47 CFR Part 73

[DA 00-1472; MM Docket No. 99-314; RM-9754]

Radio Broadcasting Services; Metropolis IL and Paducah, KY

AGENCY: Federal Communications Commission.

ACTION: Proposed rule; denial.

SUMMARY: Sun Media, Inc. requested the reallotment of Channel 252C1 from Metropolis, Illinois to Paducah, Kentucky, and the modification of Station WRIK-FM's construction permit accordingly. See 64 FR 59728, November 3, 1999. The petitioner's rule making proposal was denied because the difference in population between the two communities did not justify removing the third local transmission service from the smaller community of Metropolis to provide the larger community of Paducah with its sixth local transmission service.

FOR FURTHER INFORMATION CONTACT: Sharon P. McDonald, Mass Media Bureau, (202) 418-2180.

SUPPLEMENTARY INFORMATION: This is a synopsis of the Commission's Report and Order, MM Docket No. 99-314, adopted June 21, 2000, and released June 30, 2000. The full text of this Commission decision is available for inspection and copying during normal business hours in the FCC Reference Information Center (Room CY-A257), 445 12th Street, SW, Washington, DC. The complete text of this decision may also be purchased from the Commission's copy contractors, International Transcription Service, Inc., (202) 857-3800, 1231 20th Street, NW., Washington, DC 20036.

Federal Communications Commission.
John A. Karousos,
Chief, Allocations Branch, Policy and Rules Division, Mass Media Bureau.

[FR Doc. 00-18295 Filed 7-19-00; 8:45 am]

BILLING CODE 6712-01-P